DEPARTMENT OF TRANSPORTATION

Federal Aviation Administration

14 CFR Part 39

[Docket No. 2000-NM-197-AD; Amendment 39-12788; AD 2002-13-01]

RIN 2120-AA64

Airworthiness Directives; McDonnell Douglas Model MD-90-30 Airplanes

AGENCY: Federal Aviation Administration, DOT.

ACTION: Final rule.

SUMMARY: This amendment adopts a new airworthiness directive (AD), applicable to certain McDonnell Douglas Model MD-90-30 airplanes, that requires an inspection of the galley power feeder cable above the main cabin ceiling supports for damage caused by chafing. The amendment also requires repairing any damage on the outer cable jacket or primary insulation, installing a splice on the power feeder cable to remove damage, installing sleeving along a portion of the cable, installing standoffs for the cable, re-routing the galley power feeder cable, and testing the galley equipment, as applicable. The actions specified by this AD are intended to prevent future damage to the galley power feeder cable as well as to detect and correct existing damage to the galley power feeder cable, which could result in electrical arcing, possibly leading to damage to adjacent structures and to fire in the airplane. This action is intended to address the identified unsafe condition.

DATES: Effective July 31, 2002.

The incorporation by reference of certain publications listed in the regulations is approved by the Director of the Federal Register as of July 31, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: George Y. Mabuni, Aerospace Engineer, Systems and Equipment Branch, ANM-130L, FAA, Los Angeles Aircraft Certification Office, 3960 Paramount Boulevard, Lakewood, California 90712-4137; telephone (562) 627-5341; fax (562) 627-5210.

SUPPLEMENTARY INFORMATION: A proposal to amend part 39 of the Federal Aviation Regulations (14 CFR part 39) to include an airworthiness directive (AD) that is applicable to certain McDonnell Douglas Model MD-90-30 airplanes was published in the Federal Register on April 5, 2002 (67 FR 16335). That action proposed to require an inspection of the galley power feeder cable above the main cabin ceiling supports for damage caused by chafing. The action also proposed to require repairing any damage on the outer cable jacket or primary insulation, installing a splice on the power feeder cable to remove damage, installing sleeving along a portion of the cable, installing standoffs for the cable, re-routing the galley power feeder cable, and testing the galley equipment, as applicable.

Comments

Interested persons have been afforded an opportunity to participate in the making of this amendment. No comments were submitted in response to the proposal or the FAA's determination of the cost to the public.

Explanation of Changes Made to Proposal

For clarification, the FAA has revised the definition of a “general visual inspection” in this final rule. We also have corrected a typographical error in the docket number specified in the proposed rule in the section containing the manufacturer's name.

Conclusion

The FAA has determined that air safety and the public interest require the adoption of the rule with the changes described above. The FAA has determined that these changes will neither increase the economic burden on any operator nor increase the scope of the AD.

Cost Impact

The FAA estimates that 17 airplanes of U.S. registry will be affected by the requirement to accomplish McDonnell Douglas Alert Service Bulletin MD90-24A046, Revision 02, dated March 26, 2001. We estimate that 22 airplanes of U.S. registry will be affected by the requirement to accomplish McDonnell Douglas Alert Service Bulletin MD90-24A047, Revision 01, dated July 31, 2000.

It will take approximately 1 work hour per airplane to accomplish the required inspection, at an average labor rate of $60 per work hour. Based on these figures, the cost impact of the inspection on U.S. operators is estimated to be $1,020, or $60 per airplane.

It will take approximately 2 work hours per airplane to accomplish the required installation of sleeving along a portion of the cable, at an average labor rate of $60 per work hour. Based on these figures, the cost impact of the installation of sleeving on U.S. operators is estimated to be $2,040, or $120 per airplane.

It will take approximately 5 work hours per airplane to accomplish the required modification of the installation of the galley power feeder cables and re-routing of the cables, at an average labor rate of $60 per work hour. Based on these figures, the cost impact of the modification and re-routing of the cable on U.S. operators is estimated to be $6,600, or $300 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-13-01 McDonnell Douglas: Amendment 39-12788, Docket 2000-NM-197-AD.

Applicability: Model MD-90-30 airplanes, as listed in McDonnell Douglas Alert Service Bulletins MD90-24A046, Revision 02, dated March 26, 2001; and MD90-24A047, Revision 01, dated July 31, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent future damage to the galley power feeder cable as well as to detect and correct existing damage to the galley power feeder cable, which could result in electrical arcing, possibly leading to damage to adjacent structures and to fire in the airplane, accomplish the following:

Inspection and Follow-On Actions

(a) For McDonnell Douglas Model MD-90-30 airplanes as identified in McDonnell Douglas Alert Service Bulletin MD90-24A046, Revision 02, dated March 26, 2001: Within 90 days after the effective date of this AD, do a one-time general visual inspection of the galley power feeder cable located above the main cabin ceiling supports in the overwing area on the left side for damage caused by chafing—particularly near the ends of the ceiling supports—per the Accomplishment Instructions of McDonnell Douglas Alert Service Bulletin MD90-24A046, Revision 02, dated March 26, 2001.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Condition 1: Damage to Outer Cable Jacket or Primary Insulation

(1) If any damage to the outer cable jacket or the primary insulation is found, prior to further flight, repair the scuffed jacket or insulation and modify the galley power feeder cable installation by installing sleeving over the wire assembly per the alert service bulletin.

Condition 2: Damage to Power Feeder Cable Conductor

(2) If any damage to the power feeder cable conductor is found, prior to further flight, repair the damaged cable by installing a splice at the damaged location, modify the galley power feeder cable installation by installing sleeving over the cable assembly, and do a functional test of the galley equipment per the alert service bulletin.

Condition 3: No Damage

(3) If no damage is found, prior to further flight, modify the galley power feeder cable installation by installing sleeving over the cable assembly per the alert service bulletin.

Note 3: Accomplishment of the applicable actions prior to the effective date of this AD per McDonnell Douglas Alert Service Bulletin MD90-24A046, dated July 31, 1997; or Revision 01, dated February 16, 1998; is acceptable for compliance with the requirements of paragraph (a) of this AD.

Modification of Installation and Re-Routing of Power Feeder Cable

(b) For McDonnell Douglas Model MD-90-30 airplanes, as identified in McDonnell Douglas Alert Service Bulletin MD90-24A047, Revision 01, dated July 31, 2000: Within one year after the effective date of this AD, modify the installation of the galley power feeder cables by installing standoffs and re-route the galley power feeder cable, as shown in Figure 1 of McDonnell Douglas Alert Service Bulletin MD90-24A047, Revision 01, dated July 31, 2000, per the alert service bulletin.

Note 4: Accomplishment of the applicable actions prior to the effective date of this AD per McDonnell Douglas Service Bulletin MD90-24-047, dated September 15, 1997, is acceptable for compliance with the requirements of paragraph (b) of this AD.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 5: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with McDonnell Douglas Alert Service Bulletin MD90-24A046, Revision 02, dated March 26, 2001; and McDonnell Douglas Alert Service Bulletin MD90-24A047, Revision 01, dated July 31, 2000; as applicable. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on July 31, 2002.

Issued in Renton, Washington, on June 14, 2002.
Ali Bahrami,
Acting Manager, Transport Airplane Directorate, Aircraft Certification Service.

[FR Doc. 02-15660 Filed 6-25-02; 8:45 am]

BILLING CODE 4910-13-P